ENVIRONMENTAL PROTECTION AGENCY

[Regional Docket Nos. II-2006-01; FRL-8272-4]

Clean Air Act Operating Permit Program; Petition for Objection to State Operating Permit for Marcal Paper Mills, Inc.

AGENCY: Environmental Protection Agency (EPA).

ACTION: Notice of final decision concerning a State operating permit.

SUMMARY: This document announces a decision the EPA Administrator has made. It responds to a citizen petition submitted by the Rutgers Environmental Law Clinic (RELC) on behalf of a number of petitioners. The petition requests EPA to object to an operating permit issued to the Marcal Paper Mills, Inc. (“Marcal”) by the New Jersey Department of Environmental Protection (DEP). The Administrator has partially granted and partially denied the subject petition.

Pursuant to section 505(b)(2) of the Clean Air Act (Act), petitioners may seek judicial review of those portions of the petition which EPA denied in the United States Court of Appeals for the appropriate circuit. Pursuant to section 307 of the Act, any petition for review shall be filed within 60 days from the date this notice appears in the Federal Register.

ADDRESSES: You may review copies of the final order, the petition, and all relevant information at the EPA Region 2 Office, 290 Broadway, New York, New York 10007-1866. If you wish to examine these documents, you should make an appointment at least 24 hours before visiting day. Additionally, the final order for Marcal is available electronically at: http://www.epa.gov/region07/programs/artd/air/title5/petitiondb/petitiondb2002.htm.

FOR FURTHER INFORMATION CONTACT: Steven Riva, Chief, Permitting Section, Air Programs Branch, Division of Environmental Planning and Protection, EPA, Region 2, 290 Broadway, 25th Floor, New York, New York 10007-1866, telephone (212) 637-4074.

SUPPLEMENTARY INFORMATION: The Act affords EPA a 45-day period to review and object, as appropriate, to operating permits proposed by State permitting authorities. Section 505(b)(2) of the Act authorizes any person to petition the EPA Administrator within 60 days after the expiration of this review period to object to State operating permits if EPA has not done so. Petitions must be based only on objections to the permit that were raised with reasonable specificity during the public comment period provided by the State, unless the petitioner demonstrates that it was impracticable to raise those issues during the comment period or the grounds for the issues arose after this period.

On March 1, 2006, EPA Region 2 received a petition from RELC on behalf of a number of petitioners requesting that EPA object to the title V operating permit issued to Marcal on the following bases: (1) The permit is not accompanied by a statement of basis that is understandable, available to the public and describes the past compliance history of the facility and permitting decisions by DEP; (2) the permit fails to include a compliance schedule containing the terms of the settlement agreement between Marcal and DEP dated June 20, 2005 that are required to satisfy pending violations; (3) the permit fails to impose sufficient opacity monitoring, such as continuous opacity monitoring, to assure compliance with particulate matter limits; (4) the permit fails to require continuous emissions monitoring or more frequent stack testing to monitor VOC and NOX; (5) the DEP did not adequately address the environmental justice issue raised by Petitioners as is required by state and federal environmental justice executive orders; and (6) the DEP did not adequately address issues raised by Petitioners during the public hearing. On November 30, 2006, the Administrator issued an order granting on the issue of Statement of Basis and denying on the other issues. The order explains EPA's reasons for granting on the Statement of Basis issue and for denying the remaining issues.

Dated: January 4, 2007.
Alan J. Steinberg,
Regional Administrator, Region 2.

[FR Doc. E7-818 Filed 1-22-07; 8:45 am]

BILLING CODE 6560-50-P